Proclamation 7496 of November 9, 2001

National Alcohol and Drug Addiction Recovery Month, 2001

By the President of the United States of America

A Proclamation

Alcohol and drug addiction exacts a devastating toll on our Nation. Approximately 14 million adults are alcoholics or abusers of alcohol, and one in four of our children are exposed to alcoholism or alcohol abuse in their families before age 18. Three million children between the age of 14 and 17 drink regularly and face future problems with alcohol. And recent statistics show that more than 14 million Americans used illicit drugs last year.

The costs of these widespread addictions are staggering. More than 100,000 Americans die each year from alcohol-related causes. Recent estimates suggest that the abuse of alcohol and drugs costs taxpayers more than $294 billion annually in preventable health care costs, extra law enforcement, automobile accidents, crime, and lost productivity. Addiction to nicotine adds an additional $138 billion to our country's financial burden.

My proposed budget provides assistance to those addicted to drugs. My Administration's proposal for enhanced treatment will increase funding for the National Institute on Alcohol Abuse and Alcoholism and the National Institute on Drug Abuse and provides $111 million of additional funding to increase access to substance abuse treatment. The budget includes $74 million for the Residential Substance Abuse Treatment program, which provides formula grants supporting drug and alcohol treatment in State and local correctional facilities. This initiative is evidence-based and requires real accountability from recipients.

Scientific research also holds a great deal of promise in treating drug and alcohol addiction. Publicly funded biomedical research, supported by the National Institutes of Health, plays an important role in finding effective means of preventing and treating these disorders. These research efforts allow scientists to target optimal points for intervention. Through Federally supported clinical trials, new treatments can be developed for communities in need across our country.

Alcohol and drug addiction destroys lives and threatens the well-being of our country, and we must address it with concerted, sustained, and purposeful strategies. If we focus more of our Nation's attention, energy, and resources on fighting these addictions, we will rescue lives and restore hope.

NOW, THEREFORE, I, GEORGE W. BUSH, President of the United States of America, by virtue of the authority vested in me by the Constitution and laws of the United States, do hereby proclaim November 2001, as National Alcohol and Drug Addiction Prevention Month. I call upon all public officials and the people of the United States to observe this month with appropriate programs, ceremonies, and activities.

IN WITNESS WHEREOF, I have hereunto set my hand this ninth day of November, in the year of our Lord two thousand one, and of the Independence of the United States of America the two hundred and twenty-sixth.

B

[FR Doc. 01-28801

Filed 11-14-01; 9:34 am]

Billing code 3195-01-P